ENVIRONMENTAL PROTECTION AGENCY

[EPA-HQ-OPP-2015-0163; FRL-9931-26]

Amendments, Extensions, and/or Issuances of Experimental Use Permits

AGENCY: Environmental Protection Agency (EPA).

ACTION: Notice.

SUMMARY: EPA has granted amendments, extensions, and/or issuances of experimental use permits (EUPs) to the pesticide applicants described in Unit II. of the SUPPLEMENTARY INFORMATION. An EUP permits use of a pesticide for experimental or research purposes only in accordance with the limitations in the permit.

FOR FURTHER INFORMATION CONTACT: Robert McNally, Director, Biopesticides and Pollution Prevention Division (7511P), Office of Pesticide Programs, Environmental Protection Agency, 1200 Pennsylvania Ave. NW., Washington, DC 20460-0001; main telephone number: (703) 305-7090; email address: BPPDFRNotices@epa.gov.

SUPPLEMENTARY INFORMATION:

I. General Information

A. Does this action apply to me?

This action is directed to the public in general. Although this action may be of particular interest to those persons who conduct or sponsor research on pesticides, EPA has not attempted to describe all the specific entities that may be affected by this action.

B. How can I get copies of this document and other related information?

The dockets for these actions, identified by the docket identification (ID) numbers as shown in the body of this document, are available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. EUPs

EPA has issued the following EUPs:

1. 524-EUP-104. (EPA-HQ-OPP-2012-0780). Amendments and Extensions. Monsanto Co., 800 N. Lindbergh Blvd., St. Louis, MO 63167. The EUP amendments/extensions were issued on February 18, 2014 and February 4, 2015, and allow planting and associated activities, e.g., collection of field data, harvesting, and processing of corn plant-incorporated protectant (PIP) seeds containing MON 87411 with a corn rootworm-protecting double-stranded RNA (dsRNA) in combination with Bacillus thuringiensis (Bt) proteins (Cry1A.105, Cry2Ab2, Cry1F, Vip3Aa20, Cry3Bb1, Cry34Ab1/Cry35Ab1, and/or Cry1Ab). Testing includes the evaluation of the efficacy of insect resistant transgenes, evaluation of agronomic performance, and production of sample material for regulatory studies. The 2014 amendment/extension tests are authorized from February 18, 2014, through February 29, 2016, in the commonwealth of Puerto Rico and in the following states: Alabama, Arkansas, California, Colorado, Florida, Georgia, Hawaii, Idaho, Illinois, Indiana, Iowa, Kansas, Kentucky, Louisiana, Michigan, Minnesota, Mississippi, Missouri, Nebraska, North Carolina, North Dakota, Ohio, Oklahoma, Pennsylvania, South Carolina, South Dakota, Tennessee, Texas, Washington, and Wisconsin. 13,558 and 18,311 PIP acres are authorized for 2014 and 2015 plantings, respectively, with up to 1.1 × 10⁻⁵ pound of DvSnf7 dsRNA. The 2015 amendment/extension tests are authorized from February 04, 2015, through February 28, 2017, in the commonwealth of Puerto Rico and in the following states: Alabama, Arkansas, California, Colorado, Florida, Georgia, Hawaii, Illinois, Indiana, Iowa, Kansas, Louisiana, Michigan, Minnesota, Mississippi, Missouri, Nebraska, North Carolina, North Dakota, Ohio, Pennsylvania, South Carolina, South Dakota, Tennessee, Texas, Washington, and Wisconsin. 4,597 and 4,959 PIP acres are authorized for 2015 and 2016 plantings, respectively, with up to 9.75 × 10⁻⁴ pound of DvSnf7 dsRNA. Comments were received in response to the notice of receipt, and EPA's response to these comments can be found in the docket assigned to this EUP.

2. 524-EUP-107. (EPA-HQ-OPP-2015-0515). Issuance. Monsanto Co., 800 N. Lindbergh Blvd., St. Louis, MO 63167. This EUP allows the use of 223,200 pounds of soybean seed containing 0.714 pound of Bt Cry1A.105 protein and 1.14 pounds of Bt Cry2Ab2 protein on 3,720 acres to evaluate the control of lepidopteran soybean pests. The program is authorized only in the commonwealth of Puerto Rico and in the states of Alabama, Arkansas, Georgia, Hawaii, Illinois, Indiana, Iowa, Kansas, Louisiana, Maryland, Mississippi, Missouri, Nebraska, North Carolina, Ohio, Pennsylvania, South Carolina, Tennessee, Texas, and Wisconsin. The EUP is effective from April 27, 2015, to December 31, 2016.

3. 8917-EUP-2. (EPA-HQ-OPP-2015-0516). Issuance. J.R. Simplot Co., 5369 W. Irving St., Boise, ID 83706. This EUP allows the use of 3,213,125 pounds of seed potatoes containing 0.0964 pound of Vnt1 protein (or 9.64 × 10⁻² pound of Vnt1 protein) on 1,285.25 acres to evaluate resistance to Phytophthora infestans (commonly known as late blight of potatoes). The program is authorized only in the states of Florida, Idaho, Michigan, Minnesota, Nebraska, Nevada, New York, North Carolina, North Dakota, Oregon, Pennsylvania, Washington, and Wisconsin. The EUP is effective from February 4, 2015, to December 31, 2015.

4. 62719-EUP-66. (EPA-HQ-OPP-2014-0521). Issuance. Dow AgroSciences LLC, 9330 Zionsville Rd., Indianapolis, IN 46268-1054. This EUP allows the use of 19.63 pounds of active ingredient (1.139, 0.3416, 1.961 × 10⁻⁶, 1.309, 14.07, 0.3443, and 2.428 pounds of Bt Cry1A.105 protein, Bt Cry2Ab2 protein, DvSnf7 dsRNA, Bt Cry1F protein, Bt Cry34Ab1 protein, Bt Cry35Ab1 protein, and Bt Cry3Bb1 protein, respectively) in 1,113,853 pounds of corn seed and involves 9,038 acres (i.e., 6,361 PIP acres, 1,061 non-PIP acres, and 1,616 border acres) for inbred and hybrid development, nursery observations, and testing and collection of product characterization data. The program is authorized only in the commonwealth of Puerto Rico and in the states of Arkansas, Hawaii, Illinois, Indiana, Iowa, Kansas, Minnesota, Missouri, Nebraska, North Dakota, Ohio, Pennsylvania, South Dakota, Texas, and Wisconsin. The EUP is effective from December 18, 2014, to March 31, 2016. EPA received two comments, one that was anonymous and one from a private citizen, in response to the notice of receipt for this EUP. Both comments generally expressed opposition to pesticides, biotechnology, corporations, and/or EPA's approval of this EUP. EPA conducted risk and other assessments on the testing program proposed and the PIP active ingredients to be tested. Based upon these scientific assessments, EPA concluded that the active ingredients to be tested are not expected to cause unreasonable adverse effects to human health or the environment and that the applicant's limited testing was needed to accumulate information for a Federal, Insecticide, Fungicide, and Rodenticide Act (FIFRA) registration. Pursuant to its authority under FIFRA and without further consideration of these comments, EPA therefore proceeded forward with issuance of this EUP.

5. 88232-EUP-1. (EPA-HQ-OPP-2014-0835). Issuance. Southern Gardens Citrus, LLC, 1820 County Rd. 833, Clewiston, FL 33440. This EUP allows the use of 50 kilograms (in Florida) and 25 kilograms (in Texas) of the PIP with the spinach defensin proteins (SoD2 and SoD7) on 720 acres (600 PIP acres and 120 border acres) of citrus plants to evaluate the control of citrus greening disease. The program is authorized only in the states of Florida and Texas. The EUP is effective from April 30, 2015, to April 18, 2018. EPA received two comments in support of the EUP on the notice of receipt, and the Agency has no further response to these comments.

Authority: 7 U.S.C. 136 et seq.

Dated: August 18, 2015.
John E. Leahy, Jr.,
Acting Director, Biopesticides and Pollution Prevention Division, Office of Pesticide Programs.

[FR Doc. 2015-21380 Filed 8-27-15; 8:45 am]

BILLING CODE 6560-50-P